GENERAL SERVICES ADMINISTRATION

Notice of Availability of the Draft Environmental Impact Statement for Improvements to the Calexico West Port of Entry, Calexico, CA

AGENCY: Public Buildings Service, GSA.

ACTION: Notice of Availability and public hearing for the Draft Environmental Impact Statement.

SUMMARY: The General Services Administration (GSA) announces the availability of the Draft Environmental Impact Statement (EIS) for Improvements to the Calexico West Port of Entry, Calexico, California, for public review and comment. The EIS provides GSA and its stakeholders an analysis of the environmental impacts resulting from ongoing operations as well as reasonable alternatives for renovation, replacement, and continued operation of the Calexico West Port of Entry, located in south-central California.

DATES: Comments on the Draft Environmental Impact Statement may be submitted during the public comment period, which will commence with the U.S. Environmental Protection Agency's publication of the Federal Register Notice of Availability for this document and end on August 18, 2010. Comments may be submitted in writing, orally, or by electronic mail to the General Services Administration at the address, phone number, or e-mail listed below. Oral or written comments may also be submitted at public meetings to be held on June 22 and July 14, 2010, between 3 and 7 p.m., at the Calexico City Hall, 608 Heber Avenue, Calexico, California. Comments submitted will be considered in preparation of the Final Environmental Impact Statement.

FOR FURTHER INFORMATION CONTACT: Mr. Greg Smith, GSA Regional Environmental Quality Advisor, Portfolio Management Division, Capital Investment Branch (9P2PTC), U.S. General Services Administration, 880 Front Street, Room 4236, San Diego, California 92101, (619) 557-6169 or via e-mail to greg.smith@gsa.gov. Oral and written comments may also be submitted at the public hearing described in the DATES section. Requests for copies of the Draft Calexico West Port of Entry EIS or other matters regarding this environmental review should be referred to Greg Smith at the address above.

SUPPLEMENTARY INFORMATION: A notice of availability will be mailed to all agencies, organizations, and individuals who participated in the scoping process or were identified during the EIS process. GSA has distributed copies of the Draft Calexico West Port of Entry EIS to appropriate Congressional members and committees, the state of California, American Indian tribal governments, local county governments, other Federal agencies, and other interested parties who have already requested copies.

The Draft EIS was prepared pursuant to the National Environmental Policy Act of 1969 (NEPA) [42 U.S.C. 4321 et seq.] and the Council on Environmental Quality NEPA regulations [40 CFR part 1500]. GSA proposes to continue operating the Calexico West Port of Entry, which is located in Calexico in south-central California. GSA has identified and assessed several design options for the renovation, replacement, and continued operation of the Calexico West Port of Entry. In addition, GSA analyzed the No Action Alternative in which GSA would continue the status quo, that is, operate the port of entry in its current configuration, with only minor planned upgrades.

The Draft Calexico Port of Entry EIS identifies the expected environmental impacts from facility operations for each alternative. For each alternative, impact discussions are presented by resource area (e.g., land use, geology and soils) or topic area (e.g., traffic, environmental justice).

After the public comment period, which ends August 18, 2010, GSA will consider the comments received, revise the Draft EIS, select a preferred alternative, and issue a Final EIS. GSA will consider the Final EIS, along with other economic and technical considerations, to make a decision on the appropriate course for improvements at the Calexico West Port of Entry.

ADDRESSES: Comments may be submitted in writing to: Mr. Greg Smith, Regional Environmental Quality Advisor, Portfolio Management Division, Capital Investment Branch (9P2PTC), U.S. General Services Administration, 880 Front Street, Room 4236, San Diego, California 92101, or via e-mail to greg.smith@gsa.gov. Oral and written comments may also be submitted at the public meetings described in the DATES section. Copies of the Draft Calexico Environmental Impact Statement may be downloaded from http://www.gsa.gov/nepalibrary. Other matters regarding this environmental review should be referred to Greg Smith at the address above.

Dated: June 10, 2010.
Samuel R. Mazzola,
Director, Portfolio Management Division, Public Building Service, Pacific Rim Region.

[FR Doc. 2010-15299 Filed 6-23-10; 8:45 am]

BILLING CODE 6820-YF-P